ENVIRONMENTAL PROTECTION AGENCY

[EPA-HQ-OPPT-2013-0721; FRL-12917-01-OCSPP]

Agency Information Collection Activities; Proposed Renewal Collection and Request for Comment; Chemical Data Reporting Under the Toxic Substances Control Act (TSCA)

AGENCY: Environmental Protection Agency (EPA).

ACTION: Notice.

SUMMARY: In compliance with the Paperwork Reduction Act (PRA), this document announces the availability of and solicits public comment on the following Information Collection Request (ICR) that EPA is planning to submit to the Office of Management and Budget (OMB): Chemical Data Reporting under the Toxic Substances Control Act (TSCA) (EPA ICR No. 1884.17 and OMB Control No. 2070-0162). This ICR represents a renewal of an existing ICR that is currently approved through October 31, 2026. Before submitting the ICR to OMB for review and approval under the PRA, EPA is soliciting comments on specific aspects of the information collection that is summarized in this document. The ICR and accompanying material are available in the docket for public review and comment.

DATES: Comments must be received on or before April 27, 2026.

ADDRESSES: Submit your comments, identified by docket identification (ID) number Docket ID No. EPA-HQ-OPPT-2013-0721, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Marisa Lewis, Office of Mission Critical Operations (Mail Code 7602M), Office of Chemical Safety and Pollution Prevention, Environmental Protection Agency, 1200 Pennsylvania Ave. NW, Washington, DC 20460-0001; telephone number: 202-564-1562; email address: Lewis.Marisa@epa.gov.

For general information contact: The TSCA Assistance Information Service Hotline, Goodwill of the Finger Lakes, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Chemical Data Reporting under the Toxic Substances Control Act (TSCA).

EPA ICR No.: 1884.17.

OMB Control No.: 2070-0162.

ICR Status: This ICR is currently approved through October 31, 2026. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This information collection request (ICR) addresses the paperwork requirements contained in the current Chemical Data Reporting (CDR) rule under the Toxic Substances Control Act (TSCA). Under TSCA section 8(a) (15 U.S.C. 2607), the EPA is authorized to collect certain information on chemical substances manufactured (including imported) or processed in the United States. The CDR was formerly known as the Inventory Update Rule (IUR).

The CDR collection provides chemical manufacture, processing, and use information that helps EPA identify chemicals to which the public may be exposed as consumers or as workers in commercial and industrial settings. The data also helps EPA assess routes of potential exposure to those chemicals. The CDR data collection is on a four-year reporting cycle and contains detailed manufacturing, processing, and use information drawn from the principal reporting year; as well as basic information on production volume, by year, for the three years prior to the principal reporting year. The next CDR collection will occur in 2028; there are no changes to the reporting requirements.

The reporting requirements have been modified through rulemaking, with the most recent major changes occurring in 2020 when EPA promulgated the TSCA Chemical Data Reporting Revisions Under TSCA Section 8(a) rule (85 FR 20122, April 9, 2020 (FRL-10005-56) and the Small Manufacturer Definition Update for Reporting and Recordkeeping Requirements under the TSCA Section 8(a) (85 FR 31986, May 28, 2020 (FRL-10008-14)). The 2020 CDR Revisions Rule phased in some provisions. All changes were fully implemented with the 2024 CDR. OPPT uses the CDR data in its chemical substance risk-management efforts. Individual sites manufacturing (including importing) chemical substances will submit the required information. The information will be stored electronically for reference by EPA staff and others. Within the constraints of confidentiality claims, the information will be made public through the Agency's website available at https://www.epa.gov/chemical-data-reporting. Further discussion of how the information is used, stored, and collected is included in this document.

The ICR, which is available in the docket along with other related materials, provides a detailed explanation of the collection activities and the burden estimate that is only briefly summarized here:

Form number(s): 9600-010; 9600-011; 9600-012; 9600-013; 9600-014; 9600-015.

Respondents/affected entities: Entities potentially affected by this ICR include North American Industrial Classification System (NAICS) code categories: 325—Chemical Manufacturing and 324—Petroleum and Coal Products Manufacturing.

Respondent's obligation to respond: Mandatory. 15 U.S.C. 2607; 40 CFR part 711.

Estimated number of potential respondents: 5,238.

Frequency of response: Once every four years.

Total estimated average number of responses for each respondent: 1.

Total estimated burden: 891,053 hours (per year). Burden is defined at 5 CFR 1320.3(b).

Total estimated costs: $88,954,949 (per year), includes $0 annualized capital investment or maintenance and operational costs.

III. Are there changes in the estimates from the last approval?

There is an increase of 161,568 hours in the total estimated respondent burden compared with that identified in the ICR currently approved by OMB. The increase reflects the use of 2020 CDR data (rather than 2016 CDR used for the previous ICR update) for estimating the reporting universe. Although in 2020 there were fewer sites reporting to CDR (i.e., fewer Form Us submitted), on average the sites reported a greater number of chemicals resulting in a substantial increase in the number of chemical reports submitted. In addition, fewer of the chemical reports were for partially exempted chemicals (see 40 CFR 711.6 for a list of chemicals that are partially exempted from reporting under CDR). Therefore, the average burden for each chemical report was also higher because a greater percentage of the chemical reports were full reports. There were no program changes, so the burden increases were not a result of any program changes to the reporting requirements. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: February 18, 2026.
Douglas M. Troutman,
Assistant Administrator, Office of Chemical Safety and Pollution Prevention.

[FR Doc. 2026-03636 Filed 2-23-26; 8:45 am]

BILLING CODE 6560-50-P